FEDERAL ELECTION COMMISSION

Sunshine Act Notices

AGENCY: Federal Election Commission.

Date and Time: Thursday, November 20, 2003 at 10 a.m.

Place: 999 E Street, NW., Washington, DC (Ninth Floor).

Status: This meeting will be open to the public.

Items to be Discussed:

Correction and Approval of Minutes.

Draft Advisory Opinion 2003-28: Horizon Lines, LLC by counsel, Thomas F. Walls.

Draft Advisory Opinion 2003-29: National Fraternal Order of Police Political Action Committee (NFOP PAC) by Bridget Vigue, Legislative Liaison.

Draft Advisory 2003-30: Fitgerald for Senate Committee and Senator Peter Fitzgerald by counsel, Benjamin L. Ginsberg and Glenn M. Willard.

Final Rules and Explanation and Justification for Travel on Behalf of Candidates and Political Committees.

Final Rules and Explanation and Justification for Leadership PACs.

Public Financing of Presidential Candidates and Nominating Conventions; Announcement of Effective Date and Correction.

Routine Administrative Matters.

FOR FURTHER INFORMATION CONTACT: Mr. Ron Harris, Press Officer, Telephone: (202) 694-1220.

Mary W. Dove,
Secretary of the Commission.

[FR Doc. 03-28678 Filed 11-12-03; 2:35 pm]

BILLING CODE 6715-01-M